DEPARTMENT OF COMMERCE

International Trade Administration

[A-570-890]

Wooden Bedroom Furniture From the People's Republic of China: Initiation of Administrative Review

AGENCY: Import Administration, International Trade Administration, Department of Commerce.

SUMMARY: The Department of Commerce (“Department”) has received requests to conduct an administrative review of the antidumping duty order on wooden bedroom furniture from the People's Republic of China (“PRC”). The anniversary month of this order is January. In accordance with the Department's regulations, we are initiating this administrative review.

DATES: Effective Date: February 28, 2013.

FOR FURTHER INFORMATION CONTACT: Jeffrey Pedersen, AD/CVD Operations, Office 4, Import Administration, International Trade Administration, U.S. Department of Commerce, 14th Street and Constitution Avenue NW., Washington, DC 20230, telephone: (202) 482-2769.

SUPPLEMENTARY INFORMATION:

Background

The Department received timely requests, in accordance with 19 CFR 351.213(b), for an administrative review of the antidumping duty order on wooden bedroom furniture from the PRC covering multiple entities.¹ The Department is now initiating an administrative review of the order covering those entities. All deadlines for the submission of various types of information, certifications, or comments or actions by the Department discussed below refer to the number of calendar days from the applicable starting time.

¹ See Notice of Amended Final Determination of Sales at Less Than Fair Value and Antidumping Duty Order: Wooden Bedroom Furniture From the People's Republic of China, 70 FR 329 (January 4, 2005).

On December 3, 2012, the American Furniture Manufacturers Committee for Legal Trade and Vaughan-Bassett Furniture Company, Inc. (“Petitioners”) submitted comments in which they requested that the Department amend its respondent selection process and also request additional information from respondents applying for separate-rate status. In the notice announcing the opportunity to request administrative reviews of the antidumping duty order on wooden bedroom furniture from the PRC, the Department asked that parties wanting to comment on the processes discussed by Petitioners or on Petitioners' December 3, 2012, submission do so by January 31, 2013. We have received no comments in response to this invitation.²

² See Antidumping and Countervailing Duty Order, Finding, or Suspended Investigation; Opportunity To Request Administrative Review, 78 FR 288 (January 3, 2013).

Based on comments from Petitioners and the unique circumstances present in administering this order, for the purposes of this segment of the proceeding, i.e., the 2012 review period, the Department has decided to modify the process by which it will collect quantity and value (“Q&V”) information upon which the selection of mandatory respondents will be made. Further, we have decided to require that all parties filing separate rate applications or certifications respond to the Q&V questionnaire and certain additional questions. The Q&V questionnaire, the additional questions, and the Separate Rate Application and Separate Rate Certification will be included in a document package that will be available on the Department's Web site. Responses to the additional questions and to the Q&V questionnaire will be due at the same time that responses to the Separate Rate Application and Separate Rate Certification are due unless otherwise noted by the Department.

Notice of No Sales

If a producer or exporter named in this notice of initiation had no exports, sales, or entries during the period of review (“POR”), it must notify the Department within 60 days of publication of this notice in the Federal Register.³ All submissions must be filed electronically at <http://iaaccess.trade.gov> in accordance with 19 CFR 351.303.⁴ Such submissions are subject to verification in accordance with section 782(i) of the Tariff Act of 1930, as amended (“Act”). Further, in accordance with 19 CFR 351.303(f)(3)(ii), a copy of each request must be served on the petitioner and each exporter or producer specified in the request.

³ Producers or exporters may also fulfill this requirement by submitting a properly filed and timely Q&V questionnaire response that indicates that the entity or entities had no exports, sales, or entries of subject merchandise during the POR. See discussion infra providing further information regarding Q&V questionnaires.

⁴ See Antidumping and Countervailing Duty Proceedings: Electronic Filing Procedures; Administrative Protective Order Procedures, 76 FR 39263 (July 6, 2011).

Respondent Selection

Section 777A(c)(1) of the Act directs the Department to calculate individual dumping margins for each known exporter and producer of the subject merchandise. Where it is not practicable to examine all known producers/exporters of subject merchandise, section 777A(c)(2)(B) of the Act permits the Department to examine exporters and producers accounting for the largest volume of the subject merchandise from the exporting country that can be reasonably examined. Due to the large number of firms for which an administrative review of wooden bedroom furniture has been requested, and the Department's experience regarding the resulting administrative burden of reviewing each company for which a request has been made, the Department is considering exercising its authority to limit the number of respondents selected for review in accordance with the Act.

In the event that the Department limits the number of respondents for individual examination in the administrative review of wooden bedroom furniture from the PRC, the Department intends to select respondents based on volume data contained in responses to a Q&V questionnaire. All parties are hereby notified that they must timely respond to the Q&V questionnaire. The Department's Q&V questionnaire along with the Separate Rate Application, Separate Rate Certification, and certain additional questions will be available in a document package on the Department's Web site at http://ia.ita.doc.gov/download/prc-wbf/ on the date this notice is signed. The responses to the Q&V questionnaire should be filed with the respondents' Separate Rate Application or Separate Rate Certification and their response to the additional questions and must be received by the Department by no later than 60 days after publication of this notice. Please be advised that due to the time constraints imposed by the statutory and regulatory deadlines for antidumping duty administrative reviews, the Department does not intend to grant any extensions for the submission of responses to the Q&V questionnaire.

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, in general, each company must report Q&V data separately for itself, i.e., parties should not include data for any other party, even if they believe they should be treated as a single entity with that other party. If a company was collapsed with another company or companies in the most recently completed segment of this proceeding where the Department considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under criteria arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate-rates test, the Department assigns separate rates to companies in NME cases only if respondents can demonstrate the absence of both de jure and de facto government control over export activities.

All firms listed below that wish to qualify for separate-rate status in this administrative review must complete, as appropriate, either a separate-rate certification or application, as described below, and respond to the additional questions and the Q&V questionnaire which are included along with the separate-rate certification and application in a document package on the Department's Web site. In order to demonstrate separate-rate eligibility, the Department requires entities for which a review was requested and that were assigned a separate rate in the most recently completed segment of this proceeding in which they participated, to certify that they continue to meet the criteria for obtaining a separate rate. The separate rate certification will be available in a document package on the Department's Web site at <http://ia.ita.doc.gov/download/prc-wbf/>. In responding to the certification, please follow the filing instructions in the document package. Separate rate certifications, as well as a response to the Q&V questionnaire and the additional questions in the document package, are due to the Department no later than 60 calendar days after publication of this Federal Register notice. The deadline and requirement for submitting a separate rate certification applies equally to NME-owned firms, wholly foreign-owned firms, and foreign sellers who purchase and export subject merchandise to the United States.

Entities that currently do not have a separate rate from a completed segment of the proceeding ⁵ should timely file a separate rate application to demonstrate eligibility for a separate rate in this proceeding. In addition, companies that received a separate rate in a completed segment of the proceeding that have subsequently made changes, including, but not limited to, changes to corporate structure, acquisitions of new companies or facilities, or changes to their official company name,⁶ should timely file a separate rate application to demonstrate eligibility for a separate rate in this proceeding. The separate rate application will be available in a document package on the Department's Web site at <http://ia.ita.doc.gov/download/prc-wbf/>. In responding to the separate rate application, please follow the filing instructions in the document package. Separate rate applications, as well as a response to the Q&V questionnaire and the additional questions in the document package, are due to the Department no later than 60 calendar days after publication of this Federal Register notice. The deadline and requirement for submitting a separate rate application applies equally to NME-owned firms, wholly foreign-owned firms, and foreign sellers who purchase and export subject merchandise to the United States.

⁵ Such entities include entities that have not participated in the proceeding, entities that were preliminarily granted a separate rate in any currently incomplete segment of the proceedings (e.g., an ongoing administrative review, new shipper review, etc.) and entities that lost their separate rate in the most recently completed segment of the proceeding in which they participated.

⁶ Only changes to the official company name, rather than trade names, need to be addressed via a separate rate application. Information regarding new trade names may be submitted via a separate rate certification.

For exporters and producers who submit a separate rate application or separate rate certification and subsequently are selected as mandatory respondents, these exporters and producers will no longer be eligible for separate-rate status unless they respond to all parts of the questionnaire as mandatory respondents.

Notification

This notice constitutes public notification to all firms for which an administrative review of wooden bedroom furniture has been requested, and that are seeking separate rate status in the review, that they must submit a timely separate rate application or certification (as appropriate) as described above, and a timely response to the Q&V questionnaire and the additional questions in the document package on the Department's Web site in order to receive consideration for separate-rate status. In other words, the Department will not give consideration to any timely separate rate certification or application made by parties who failed to respond in a timely manner to the Q&V questionnaire and the additional questions. All information submitted by respondents in this administrative review is subject to verification. As noted above, the separate rate certification, the separate rate application, the Q&V questionnaire, and the additional questions will be available in a document package on the Department's Web site on the date of publication of this notice in the Federal Register.

Initiation of Review

In accordance with 19 CFR 351.221(c)(1)(i), we are initiating an administrative review of the antidumping duty order on wooden bedroom furniture from the PRC with respect to the following companies, for the January 1, 2012, through December 31, 2012, POR. We intend to issue the final results of this review no later than January 31, 2014.

Name | Separate rate as of latest completed segment of proceeding
Alexandre International Corp., Southern Art Development Ltd., Alexandre Furniture (Shenzhen) Co., Ltd., Southern Art Furniture Factory | Yes.
Art Heritage International, Ltd., Super Art Furniture Co., Ltd., Artwork Metal & Plastic Co., Ltd., Jibson Industries Ltd., Always Loyal International | Yes.
Billy Wood Industrial (Dong Guan) Co., Ltd., Great Union Industrial (Dongguan) Co., Ltd., Time Faith Ltd | Yes.
Changshu HTC Import & Export Co., Ltd | Yes.
Cheng Meng Furniture (PTE) Ltd., Cheng Meng Decoration & Furniture (Suzhou) Co., Ltd | Yes.
Chuan Fa Furniture Factory | Yes.
Clearwise Company Limited | Yes.
COE Ltd | Yes.
Dalian Guangming Furniture Co., Ltd | Yes.
Dalian Huafeng Furniture Group Co., Ltd | Yes.
Dalian Pretty Home Furniture a.k.a. Dalian Pretty Home Furniture Co., Ltd | Yes.
Decca Furniture Ltd | Yes.
Dongguan Cambridge Furniture Co., Ltd., Glory Oceanic Co., Ltd | Yes.
Dongguan Dihao Furniture Co., Ltd | Yes.
Dongguan Great Reputation Furniture Co., Ltd | Yes.
Dongguan Huansheng Furniture Co., Ltd | Yes.
Dongguan Hung Sheng Artware Products Co., Ltd., Coronal Enterprise Co., Ltd | Yes.
Dongguan Kin Feng Furniture Co., Ltd | Yes.
Dongguan Kingstone Furniture Co., Ltd., Kingstone Furniture Co., Ltd | Yes.
Dongguan Liaobushangdun Huada Furniture Factory, Great Rich (Hk) Enterprises Co., Ltd | Yes.
Dongguan Lung Dong Furniture Co., Ltd., Dongguan Dong He Furniture Co., Ltd | Yes.
Dongguan Mingsheng Furniture Co., Ltd | Yes.
Dongguan Singways Furniture Co., Ltd | Yes.
Dongguan Sunrise Furniture Co., Ltd., Taicang Sunrise Wood Industry Co., Ltd., Taicang Fairmount Designs Furniture Co., Ltd., Meizhou Sunrise Furniture Co., Ltd | Yes.
Dongguan Sunshine Furniture Co., Ltd | Yes.
Dongguan Yihaiwei Furniture Limited | Yes.
Dongguan Yujia Furniture Co., Ltd | Yes.
Dongying Huanghekou Furniture Industry Co., Ltd | Yes.
Dorbest Ltd., Rui Feng Woodwork Co., Ltd. Aka Rui Feng Woodwork (Dongguan) Co., Ltd., Rui Feng Lumber Development Co., Ltd. Aka Rui Feng Lumber Development (Shenzhen) Co., Ltd | Yes.
Eurosa (Kunshan) Co., Ltd., Eurosa Furniture Co., (PTE) Ltd | Yes.
Fine Furniture (Shanghai) Ltd | Yes.
Fortune Furniture Ltd., Dongguan Fortune Furniture Ltd | Yes.
Fuijian Lianfu Forestry Co, Ltd. (a.k.a. Fujian Wonder Pacific Inc.), Fuzhou Huan Mei Furniture Co., Ltd., Jiangsu Dare Furniture Co., Ltd | Yes.
Gaomi Yatai Wooden Ware Co., Ltd., Team Prospect International Limited, Money Gain International Co | Yes.
Garri Furniture (Dong Guan) Co., Ltd., Molabile International, Inc., Weei Geo Enterprise Co., Ltd | Yes.
Golden Well International (HK) Ltd | Yes.
Guangdong New Four Seas Furniture Manufacturing Ltd | Yes.
Guangzhou Lucky Furniture Co., Ltd | Yes.
Guangzhou Maria Yee Furnishings Ltd., Pyla HK, Ltd., Maria Yee, Inc | Yes.
Hang Hai Woodcraft's Art Factory | Yes.
Hangzhou Cadman Trading Co., Ltd | Yes.
Hualing Furniture (China) Co., Ltd., Tony House Manufacture (China) Co., Ltd., Buysell Investments Ltd., Tony House Industries Co., Ltd | Yes.
Jardine Enterprise, Ltd | Yes.
Jiangmen Kinwai Furniture Decoration Co., Ltd | Yes.
Jiangmen Kinwai International Furniture Co., Ltd | Yes.
Jiangsu Xiangsheng Bedtime Furniture Co., Ltd | Yes.
Jiangsu Yuexing Furniture Group Co., Ltd | Yes.
Jiedong Lehouse Furniture Co., Ltd | Yes.
Kunshan Summit Furniture Co., Ltd | Yes.
Langfang Tiancheng Furniture Co., Ltd | Yes.
Longkou Huangshan Furniture Factory | Yes.
Longrange Furniture Co., Ltd | Yes.
Macau Youcheng Trading Co./Zhongshan Youcheng Wooden Arts & Crafts Co., Ltd | Yes.
Nanhai Baiyi Woodwork Co., Ltd | Yes.
Nanhai Jiantai Woodwork Co., Ltd., Fortune Glory Industrial Ltd. (H.K. Ltd.) | Yes.
Nanjing Nanmu Furniture Co., Ltd | Yes.
Nathan International Ltd., Nathan Rattan Factory | Yes.
Passwell Corporation, Pleasant Wave Ltd | Yes.
Perfect Line Furniture Co., Ltd | Yes.
Po Ying Industrial Co | Yes.
Prime Wood International Co., Ltd, Prime Best International Co., Ltd., Prime Best Factory, Liang Huang (Jiaxing) Enterprise Co., Ltd | Yes.
Putian Jinggong Furniture Co., Ltd | Yes.
Qingdao Beiyuan-Shengli Furniture Co., Ltd., Qingdao Beiyuan Industry Trading Co., Ltd | Yes.
Qingdao Liangmu Co., Ltd | Yes.
Qingdao Shengchang Wooden Co., Ltd | Yes.
Red Apple Trading Co., Ltd., Shenzhen Tiancheng Furniture Co., Ltd., Winbuild Industrial Ltd., Red Apple Furniture Co., Ltd | Yes.
Restonic (Dongguan) Furniture Ltd., Restonic Far East (Samoa) Ltd | Yes.
Rizhao Sanmu Woodworking Co., Ltd | Yes.
Season Furniture Manufacturing Co., Season Industrial Development Co | Yes.
Sen Yeong International Co., Ltd., Sheh Hau International Trading Ltd | Yes.
Shanghai Jian Pu Export & Import Co., Ltd | Yes.
Shanghai Maoji Imp And Exp Co., Ltd | Yes.
Sheng Jing Wood Products (Beijing) Co., Ltd., Telstar Enterprises Ltd | Yes.
Shenyang Shining Dongxing Furniture Co., Ltd | Yes.
Shenzhen Forest Furniture Co., Ltd | Yes.
Shenzhen Jiafa High Grade Furniture Co., Ltd., Golden Lion International Trading Ltd | Yes.
Shenzhen New Fudu Furniture Co., Ltd | Yes.
Shenzhen Shen Long Hang Industry Co., Ltd | Yes.
Shenzhen Wonderful Furniture Co., Ltd | Yes.
Shenzhen Xingli Furniture Co., Ltd | Yes.
Shing Mark Enterprise Co., Ltd., Carven Industries Limited (BVI), Carven Industries Limited (Hk), Dongguan Zhenxin Furniture Co., Ltd., Dongguan Yongpeng Furniture Co., Ltd | Yes.
Shun Feng Furniture Co., Ltd | Yes.
Songgang Jasonwood Furniture Factory, Jasonwood Industrial Co., Ltd. S.A | Yes.
Starwood Industries Ltd | Yes.
Strongson Furniture (Shenzhen) Co., Ltd., Strongson Furniture Co., Ltd., Strongson (HK) Co | Yes.
Sunforce Furniture (Hui-Yang) Co., Ltd., Sun Fung Wooden Factory, Sun Fung Co., Shin Feng Furniture Co., Ltd., Stupendous International Co., Ltd | Yes.
Superwood Co., Ltd., Lianjiang Zongyu Art Products Co., Ltd | Yes.
Teamway Furniture (Dong Guan) Ltd., Brittomart Inc | Yes.
Techniwood Industries Ltd., Ningbo Furniture Industries Limited, Ningbo Hengrun Furniture Co., Ltd | Yes.
Tianjin First Wood Co., Ltd | Yes.
Tianjin Fortune Furniture Co., Ltd | Yes.
Tianjin Phu Shing Woodwork Enterprise Co., Ltd | Yes.
Tradewinds Furniture Ltd., Fortune Glory Industrial Ltd. (H. K. Ltd.) | Yes.
Transworld (Zhang Zhou) Furniture Co., Ltd | Yes.
Tube-Smith Enterprise (Zhangzhou) Co., Ltd., Tube-Smith Enterprise (Haimen) Co., Ltd., Billionworth Enterprises Ltd | Yes.
U-Rich Furniture (Zhangzhou) Co., Ltd., U-Rich Furniture Ltd | Yes.
Wanhengtong Nueevder (Furniture) Manufacture Co., Ltd., Dongguan Wanhengtong Industry Co., Ltd | Yes.
Wanvog Furniture (Kunshan) Co., Ltd | Yes.
Winmost Enterprises Limited | Yes.
Woodworth Wooden Industries (Dong Guan) Co., Ltd | Yes.
Xiamen Yongquan Sci-Tech Development Co., Ltd | Yes.
Xilinmen Furniture Co., Ltd | Yes.
Yeh Brothers World Trade, Inc | Yes.
Yihua Timber Industry Co., Ltd., Guangdong Yihua Timber Industry Co., Ltd | Yes.
Zhang Zhou Sanlong Wood Product Co., Ltd | Yes.
Zhangjiagang Daye Hotel Furniture Co., Ltd | Yes.
Zhangzhou Guohui Industrial & Trade Co., Ltd | Yes.
Zhejiang Tianyi Scientific & Educational Equipment Co., Ltd | Yes.
Zhongshan Fookyik Furniture Co., Ltd | Yes.
Zhongshan Golden King Furniture Industrial Co., Ltd | Yes.
Zhoushan For-Strong Wood Co., Ltd | Yes.
Baigou Crafts Factory of Fengkai | No.
Best King International Ltd | No.
BNBM Co., Ltd | No.
Brother Furniture Manufacture Co., Ltd | No.
C.F. Kent Co., Inc | No.
C.F. Kent Hospitality, Inc | No.
Classic Furniture Global Co., Ltd | No.
Creation Industries Co., Ltd | No.
Der Cheng Furniture Co., Ltd | No.
Der Cheng Wooden Works of Factory | No.
Dong Guan Golden Fortune Houseware Co., Ltd | No.
Dongguan Bon Ten Furniture Co., Ltd | No.
Dongguan Chengcheng Furniture Co., Ltd | No.
Dongguan Chunsan Wood Products Co, Ltd | No.
Dongguan Creation Furniture Co., Ltd | No.
Dongguan Da Zhong Woodwork Co., Ltd | No.
Dongguan Grand Style Furniture Co., Ltd | No.
Dongguan Haoshun Furniture Ltd | No.
Dongguan Hero Way Woodwork Co., Ltd | No.
Dongguan Hua Ban Furniture Co., Ltd | No.
Dongguan Mu Si Furniture Co., Ltd | No.
Dongguan New Technology Import & Export Co., Ltd | No.
Dongguan Sunpower Enterprise Co., Ltd | No.
Dream Rooms Furniture (Shanghai) Co., Ltd | No.
Ever Spring Furniture Company Ltd | No.
Fairmont Designs | No.
Fleetwood Fine Furniture Lp | No.
Foliot Furniture Corporation | No.
Foliot Furniture Inc | No.
Foliot Furniture Pacific Inc | No.
Forward Win Enterprises Co., Ltd | No.
Foshan Guanqiu Furniture Co., Ltd | No.
Furnmart Ltd | No.
Green River Wood (Dongguan) Ltd | No.
Guangdong Sunwin Green Furniture Industry Group Co., Ltd | No.
Guangming Group Wumahe Furniture Co.,Ltd | No.
Hainan Jong Bao Lumber Co., Ltd | No.
Hero Way Enterprises Ltd | No.
Hong Kong Da Zhi Furniture Co., Ltd | No.
Hong Kong Jingbi Group | No.
Huasen Furniture Co., Ltd | No.
Hung Fai Wood Products Factory, Ltd | No.
Hwang Ho International Holdings Limited | No.
Inni Furniture | No.
Jiangsu Weifu Group Fullhouse Furniture Mfg. Corp | No.
Jibbon Enterprise Co., Ltd | No.
Kai Chan (Hong Kong) Enterprise Ltd | No.
Kai Chan Furniture Co., Ltd | No.
King Rich International, Ltd | No.
King's Way Furniture Industries Co., Ltd | No.
Kingsyear Ltd | No.
Kuan Lin Furniture (Dong Guan) Co., Ltd | No.
Kuan Lin Furniture Co., Ltd | No.
Kuan Lin Furniture Factory | No.
Kunshan Lee Wood Product Co., Ltd | No.
Leefu Wood (Dongguan) Co., Ltd | No.
Link Silver Ltd. (V.I.B.) | No.
Locke Furniture Factory | No.
Marvin Furniture (Shanghai) Co., Ltd | No.
Meikangchi (Nantong) Furniture Co., Ltd | No.
Nantong Dongfang Orient Furniture Co., Ltd | No.
Nantong Yangzi Furniture Co., Ltd | No.
Nantong Yushi Furniture Co., Ltd | No.
Passwell Wood Corporation | No.
S.Y.C. Family Enterprise Co., Ltd | No.
Samso Industries Ltd | No.
Shanghai Aosen Furniture Co., Ltd | No.
Shanghai Fangjia Industry Co., Ltd | No.
Shanghai Hospitality Product Mfg., Co., Ltd | No.
Shanghai Sunrise Furniture Co., Ltd | No.
Shenzhen Xiande Furniture Factory | No.
Starwood Furniture Manufacturing Co., Ltd | No.
Taiwan Kai Chan Co., Ltd | No.
Tarzan Furniture Industries Ltd | No.
Tianjin Master Home Furniture Company | No.
Tradewinds International Enterprise Ltd | No.
Trendex Industries Ltd | No.
Wan Bao Chen Group Hong Kong Co., Ltd | No.
Well Earth International Ltd | No.
Winny Overseas, Ltd | No.
Winny Universal Ltd | No.
Xilinmen Group Co. Ltd | No.
Xingli Arts & Crafts Factory of Yangchun | No.
Yichun Guangming Furniture Co., Ltd | No.
Yongxin Industrial (Holdings) Limited | No.
Zhanjiang Sunwin Arts & Crafts Co., Ltd | No.
Zhong Shan Fullwin Furniture Co., Ltd | No.
Zhongshan Gainwell Furniture Co., Ltd | No.
Zhongshan Winny Furniture Ltd | No.

If one of the above named companies does not qualify for a separate rate, all other exporters of wooden bedroom furniture from the PRC who have not qualified for a separate rate are deemed to be covered by this review as part of the single PRC entity of which the named exporters are a part.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305. On January 22, 2008, the Department published Antidumping and Countervailing Duty Proceedings: Documents Submission Procedures; APO Procedures, 73 FR 3634 (January 22, 2008). Those procedures apply to the administrative review of the antidumping duty order on wooden bedroom furniture from the PRC which is being initiated through this notice. Parties that wish to participate in the antidumping duty administrative review of wooden bedroom furniture from the PRC should ensure that they meet the requirements in these procedures (e.g., the filing of separate letters of appearance as discussed in 19 CFR 351.103(d)).

Any party submitting factual information in an antidumping duty or countervailing duty proceeding must certify to the accuracy and completeness of that information.⁷ Parties are hereby reminded that revised certification requirements are in effect for company/government officials as well as their representatives in all segments of any antidumping duty or countervailing duty proceedings initiated on or after March 14, 2011.⁸ The formats for the revised certifications are provided at the end of the Interim Final Rule. The Department intends to reject factual submissions in any proceeding segments initiated on or after March 14, 2011, if the submitting party does not comply with the revised certification requirements.

⁷ See section 782(b) of the Act.

⁸ See Certification of Factual Information to Import Administration During Antidumping and Countervailing Duty Proceedings: Interim Final Rule, 76 FR 7491 (February 10, 2011) (“Interim Final Rule”), amending 19 CFR 351.303(g)(1) and (2) and supplemented by Certification of Factual Information to Import Administration During Antidumping and Countervailing Duty Proceedings: Supplemental Interim Final Rule, 76 FR 54697 (September 2, 2011).

This initiation and notice are in accordance with section 751(a) of the Act (19 U.S.C. 1675(a)), and 19 CFR 351.221(c)(1)(i).

Dated: February 22, 2013.
Gary Taverman,
Senior Advisor for Antidumping and Countervailing Duty Operations.

[FR Doc. 2013-04683 Filed 2-27-13; 8:45 am]

BILLING CODE 3510-DS-P